DEPARTMENT OF ENERGY

Federal Energy Regulatory Commission

Combined Notice of Filings #1

Take notice that the Commission received the following electric rate filings:

Docket Numbers: ER24-165-001.

Applicants: Midcontinent Independent System Operator, Inc.

Description: Compliance filing: 2024-09-20_Additional Compliance for Order 895 Credit Information Sharing to be effective 7/26/2024.

Filed Date: 9/20/24.

Accession Number: 20240920-5010.

Comment Date: 5 p.m. ET 10/11/24.

Docket Numbers: ER24-2534-001.

Applicants: Gravel Pit Solar III, LLC.

Description: Tariff Amendment: Response to Deficiency Letter to be effective 9/11/2024.

Filed Date: 9/20/24.

Accession Number: 20240920-5076.

Comment Date: 5 p.m. ET 10/11/24.

Docket Numbers: ER24-2535-001.

Applicants: Gravel Pit Solar IV, LLC.

Description: Tariff Amendment: Response to Deficiency Letter to be effective 9/11/2024.

Filed Date: 9/20/24.

Accession Number: 20240920-5078.

Comment Date: 5 p.m. ET 10/11/24.

Docket Numbers: ER24-3065-001.

Applicants: Prairie Center Energy LLC.

Description: Tariff Amendment: Amendment to Market-Based Rate Application to be effective 10/28/2024.

Filed Date: 9/19/24.

Accession Number: 20240919-5193.

Comment Date: 5 p.m. ET 10/10/24.

Docket Numbers: ER24-3085-000.

Applicants: PJM Interconnection, L.L.C.

Description: 205(d) Rate Filing: Amendment to ISA No. 6154; Queue No. AE1-185 to be effective 11/20/2024.

Filed Date: 9/20/24.

Accession Number: 20240920-5062.

Comment Date: 5 p.m. ET 10/11/24.

Docket Numbers: ER24-3086-000.

Applicants: Southern California Edison Company.

Description: 205(d) Rate Filing: Second Amended LGIA Gaskell West TOT727 to be effective 9/21/2024.

Filed Date: 9/20/24.

Accession Number: 20240920-5079.

Comment Date: 5 p.m. ET 10/11/24.

Docket Numbers: ER24-3087-000.

Applicants: Pacific Gas and Electric Company.

Description: 205(d) Rate Filing: Amendment to WAPA TEA (RS 231) to be effective 1/1/2025.

Filed Date: 9/20/24.

Accession Number: 20240920-5081.

Comment Date: 5 p.m. ET 10/11/24.

Docket Numbers: ER24-3088-000.

Applicants: Public Service Company of New Mexico.

Description: 205(d) Rate Filing: Revised Transmission Construction and Interconnection Agreement with GridLiance to be effective 8/21/2024.

Filed Date: 9/20/24.

Accession Number: 20240920-5098.

Comment Date: 5 p.m. ET 10/11/24.

Docket Numbers: ER24-3089-000.

Applicants: PJM Interconnection, L.L.C.

Description: 205(d) Rate Filing: Original WMPA Service No. 7373; AG1-558 to be effective 8/23/2024.

Filed Date: 9/20/24.

Accession Number: 20240920-5146.

Comment Date: 5 p.m. ET 10/11/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 20, 2024.
Debbie-Anne A. Reese,
Acting Secretary.

[FR Doc. 2024-22088 Filed 9-25-24; 8:45 am]

BILLING CODE 6717-01-P